NUCLEAR REGULATORY COMMISSION

10 CFR Part 72

[NRC-2016-0255]

Regulatory Issue Summary Regarding Certificate of Compliance Corrections and Revisions

AGENCY: Nuclear Regulatory Commission.

ACTION: Regulatory issue summary; issuance.

SUMMARY: The U.S. Nuclear Regulatory Commission (NRC) is issuing Regulatory Issue Summary (RIS) 2017-05, “Administration of 10 CFR part 72 Certificate of Compliance Corrections and Revisions.” This RIS informs all holders of certificates of compliance and all general licensees subject to the licensing requirements for the independent storage of spent nuclear fuel, high-level radioactive waste, and reactor-related greater than Class C waste, of the processes to revise an initial certificate of compliance and subsequent amendments to make administrative corrections and technical changes using the existing regulatory framework.

DATES: The RIS is available as of September 22, 2017.

ADDRESSES: Please refer to Docket ID NRC-2016-0255 when contacting the NRC about the availability of information regarding this document. You may obtain publicly available information related to this document using any of the following methods:

• Federal Rulemaking Web site: Go to http://www.regulations.gov and search for Docket ID NRC-2016-0255. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document. This RIS is available under ADAMS Accession No. ML17165A183.

• NRC's PDR: You may examine and purchase copies of public documents at the NRC's PDR, Room O1-F21, One White Flint North, 11555 Rockville Pike, Rockville, Maryland 20852.

• This RIS is also available on the NRC's public Web site at http://www.nrc.gov/reading-rm/doc-collections/gen-comm/reg-issues/ (select “2017” and then select “2017-05”).

FOR FURTHER INFORMATION CONTACT: John Vera, Office of Nuclear Material Safety and Safeguards, U.S. Nuclear Regulatory Commission, Washington, DC 20555-0001; telephone: 301-415-5790; email: John.Vera@nrc.gov.

SUPPLEMENTARY INFORMATION: The NRC published a notice of opportunity for public comment on this RIS in the Federal Register on January 18, 2017 (82 FR 5445). The NRC received comments from two commenters. The NRC considered all comments, which resulted in changes to the RIS. The evaluation of these comments and the resulting changes to the RIS are discussed in a publicly-available memorandum which is available in ADAMS under Accession No. ML17165A178.

Dated at Rockville, Maryland, this 18th day of September 2017.
For the Nuclear Regulatory Commission.
Alexander D. Garmoe,
Acting Chief, Generic Communications Branch, Division of Policy and Rulemaking, Office of Nuclear Reactor Regulation.

[FR Doc. 2017-20226 Filed 9-21-17; 8:45 am]

BILLING CODE 7590-01-P